DEPARTMENT OF DEFENSE

Office of the Secretary

[Transmittal No. 23-0W]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 23-0W.

Dated: December 10, 2024.
Aaron T. Siegel,
Alternate OSD Federal Register Liaison Officer, Department of Defense.

BILLING CODE 6001-FR-P

BILLING CODE 6001-FR-C

Transmittal No. 23-0W

REPORT OF ENHANCEMENT OR UPGRADE OF SENSITIVITY OF TECHNOLOGY OR CAPABILITY (SEC. 36(B)(5)(C), AECA)

(i) Purchaser: Government of Canada

(ii) Sec. 36(b)(1), AECA Transmittal No.: 17-57

Date: October 30, 2017

Implementing Agency: Air Force

(iii) Description: On October 30, 2017, Congress was notified by Congressional certification transmittal number 17-57 of the possible sale, under Section 36(b)(1) of the Arms Export Control Act, of up to thirty-two (32) AIM-120D Advanced Medium-Range Air-to-Air Missiles (AMRAAMs), up to eighteen (18) AMRAAM Captive Air Training Missiles (CATMs); up to four (4) AMRAAM Non-Development Item—Airborne Instrumentation Unit (NDI-AIU); up to two (2) AMRAAM Instrumented Test Vehicles (ITV); up to seven (7) spare AMRAAM guidance units; up to four (4) spare AMRAAM control sections for use on their F/A-18 aircraft. Included in the sale were containers; storage and preservation; transportation; aircrew and maintenance training; training aids and equipment, spares and repair parts; warranties; weapon system support and test equipment; publications and technical documentation; software development, integration, and support; system integration and testing; U.S. Government and contractor engineering, technical, and logistics support; and other related elements of logistics and program support. The total estimated program cost was $140 million. Major Defense Equipment (MDE) constituted $130 million of this total.

On February 21, 2019, Congress was notified by Congressional certification transmittal number 19-0E of the inclusion of up to eighty-eight (88) AIM-120D AMRAAMs beyond the number enumerated in the original notification (for a total of one hundred twenty (120) AIM-120D AMRAAMs),—as well as the increase of up to sixteen (16) spare AMRAAM guidance units (for a total of twenty-three (23) spare AMRAAM guidance units), and eight (8) spare AMRAAM control sections (for a total of twelve (12) spare AMRAAM control sections). The MDE value increased by $150 million to $280 million. The total case value increased to $308 million.

This transmittal notifies the inclusion of the following additional MDE items: up to four hundred twelve (412) AIM-120D AMRAAMs; up to forty-eight (48) AMRAAM Air-to-Air Vehicles Instrumented (AAVI); and up to ten (10) spare AMRAAM guidance units for use on F/A-18 and F-35 aircraft. Also included are KGV-135A embedded COMSEC devices; classified software and technical publications; AMRAAM control and telemetry sections; containers; field spares; support equipment; spare parts; technical publications; country-specific technical orders; repair and return services; site surveys; weapons system support; and training. The estimated total value of the new items and services is $1.902 billion. The estimated MDE value will increase by $1.66 billion to a revised $1.94 billion. The estimated non-MDE value will increase by $0.242 billion to a revised $0.270 billion. The estimated total case value will increase to $2.21 billion.

(iv) Significance: The inclusion of this MDE represents an increase in capability and capacity over what was previously notified. The proposed sale will increase Canada's stock of AIM-120D AMRAAM for use with its F/A-18 and F-35 fleets.

(v) Justification: This proposed sale will support the foreign policy and national security objectives of the United States by helping to improve the military capability of Canada, a North Atlantic Treaty Organization Ally that is an important force for ensuring political stability and economic progress, and is a contributor to military, peacekeeping and humanitarian operations around the world.

(vi) Sensitivity of Technology:

The AIM-120D AAVI is a live launch test vehicle used primarily for flight test integration with a rocket motor and instrumentation unit in place of a warhead. The AAVI verifies and assesses the ability to safely launch an AMRAAM and validate the missile's performance.

The Sensitivity of Technology Statement contained in the original notification applies to additional items reported here.

The highest level of classification of defense articles, components, and services included in this potential sale is SECRET.

(vii) Date Report Delivered to Congress: December 14, 2023

[FR Doc. 2024-29496 Filed 12-13-24; 8:45 am]

BILLING CODE 6001-FR-P